NATIONAL INSTITUTE FOR LITERACY

Proposed Agency Information Collection Activities; Comment Request

AGENCY: National Institute for Literacy.

ACTION: Notice of information collection.

SUMMARY: In compliance with the Paperwork Reduction Act (44 U.S.C. 3501 et. seq.), this notice announces an Information Collection Request (ICR) by the NIFL. The ICR describes the nature of the information collection and its expected cost and burden.

DATES: Comments must be submitted on or before April 6, 2000.

ADDRESSES: Submit written comments to: National Institute for Literacy, 1775 I Street, NW, Suite 730, Washington, DC 20006, Attention: William B. Hawk. Copies of the complete ICR and accompanying appendixes may be obtained from the above address or by contacting William B. Hawk at (202) 233-2042. Comments may also be submitted electronically by sending electronic mail (e-mail) to: whawk@nifl.gov.

All written comments will be available for public inspection from 8 a.m. to 4:30 p.m., Monday through Friday, excluding legal holidays.

SUPPLEMENTARY INFORMATION: Title: Application for Literacy Information and Communication System (LINCS) Special Collection Development Partners Awards to organizations to support the creation and maintenance of subject specific sets of literacy-related information on LINCS.

Abstract: The National Institute For Literacy (NIFL) was created by the National Literacy Act of 1991 and amended by the Workforce Investment Act of 1998 to provide a national focal point for literacy activities and to facilitate the pooling of ideas and expertise across a fragmented field. The Act authorizes the NIFL to conduct basic and applied research and demonstrations on literacy; collect and disseminate information to Federal, State, and local entities with respect to literacy; and improve and expand the system for delivery of literacy services. The NIFL will provide funding to organizations for the creation of in-depth literacy-related collections of subject specific information on LINCS. Evaluations to determine successful applications will be made by a panel of literacy experts and information specialists using the published criteria. The NIFL will use this information to make up to 10 cooperative agreement awards for a period of up to three years.

Burden Statement: The burden for this collection of information is estimated at 40 hours per response for the first year. This estimate includes the time needed to review instructions, complete the form, and review the collection of information. No more than 10 applicants will be awarded a three-year cooperative agreement grant. Each awardee will have an annual update of the application requiring an average of 30 hours per response for each continuation year.

Respondents: Public and private non-profit organizations.

Estimated Number of Respondents: 25.

Estimated Number of Responses Per Respondent: 1.

Estimated Total Annual Burden on Respondents: 52 hours.

Frequency of Collection: One time. Send comments regarding the burden estimate or any other aspect of the information collection, including suggestions for reducing the burden to: National Institute for Literacy, 1775 I Street, NW, Suite 730, Washington, DC 20006, Attention: William B. Hawk. Comments may also be submitted electronically by sending electronic mail (e-mail) to whawk@nifl.gov.

Request for Comments

NIFL solicits comments to: (i) Evaluate whether the proposed collection of information is necessary for the proper performance of the functions of the agency, including whether the information will have practical utility. (ii) Evaluate the accuracy of the agency's estimates of the burden of the proposed collection of information. (iii) Enhance the quality, utility, and clarity of the information to be collected. (iv) Minimize the burden of the collection of information on those who are to respond, including through the use of appropriate automated or electronic collection technologies of other forms of information technology, e.g., permitting electronic submission of responses.

Dated: March 2, 2000.
Jaleh Behroozi Soroui,
LINCS Project Director, NIFL.

[FR Doc. 00-5482 Filed 3-6-00; 8:45 am]

BILLING CODE 6055-01-M